DEPARTMENT OF COMMERCE

International Trade Administration

Amended Application Deadlines to the Minority-Business Focused Trade Mission to Italy, Spain and Portugal, Cyber Security Business Development Mission to India, and the U.S.-UK Financial Innovation Partnership (FIP) Trade Mission

AGENCY: International Trade Administration, Department of Commerce.

ACTION: Notice.

SUMMARY: The United States Department of Commerce, International Trade Administration, is announcing amended dates and deadlines for submitting applications for three upcoming trade missions that were previously announced and published in the Federal Register:

• Minority-Business Focused Trade Mission to Italy, Spain, and Portugal, scheduled from May 15-20, 2022. The new application deadline is extended to March 25, 2022.

• Cybersecurity Business Development Mission to India, originally scheduled from May 2-5 is postponed to May 23-27, 2022. The new application deadline is extended to April 15, 2022.

• U.S.-UK Financial Innovation Partnership (FIP) trade mission, scheduled from June 27-29, 2022. The new application deadline is extended to April 15, 2022.

SUPPLEMENTARY INFORMATION: Amendments to Revise the Deadline for Submitting Applications.

Background

Minority-Business Focused Trade Mission to Italy, Spain, and Portugal

The United States Department of Commerce, International Trade Administration, is amending the Notice published at 87 FR 2130 (January 13, 2022), regarding the deadline for submitting applications for ITA's planned Minority-Business Focused Trade Mission to Italy, Spain, and Portugal, scheduled from May 15-20, 2022. The new final deadline for applications has been extended to March 25, 2022. Applications may be accepted after that date if space remains and scheduling constraints permit. Interested U.S. companies and trade associations/organizations that have not already submitted an application are encouraged to do so. The U.S. Department of Commerce will review applications and make selection decisions on a rolling basis in accordance with the Notice published at 87 FR 2130 (January 13, 2022). The applicants selected will be notified as soon as possible.

Contacts

Project Lead

Scott Pozil, Regional Senior Commercial Officer, Paris, France, +33 625278431, Scott.Pozil@trade.gov, Overall Lead.

Tanya Cole, Principal Commercial Officer, Milan, Italy, +39 340 495 3498, Tanya.Cole@trade.gov.

Linda Caruso, Deputy Senior Commercial Officer, Madrid, Spain, +34 670 020 110, Linda.Caruso@trade.gov.

Rafael Patino, Senior Commercial Officer, Lisbon, Portugal, +35 91 931 9781, Rafael.Patino@trade.gov.

Fernando Jimenez, Senior International Trade Specialist, U.S. Export Assistance Center, Phoenix, AZ, +1 480 737 1128, Domestic Point of Contact.

Background

Cybersecurity Business Development Mission to India

The International Trade Administration has determined that to allow for optimal execution of recruitment and event scheduling for the mission, the dates of the mission are postponed from May 2-5, 2022 to May 23-27, 2022. As a result of the shift of the event dates the application deadline is also revised to April 15, 2022. Applications may be accepted after that date if space remains and scheduling constraints permit. Interested U.S. companies and trade associations/organizations that have not already submitted an application are encouraged to do so. The U.S. Department of Commerce will review applications and make selection decisions on a rolling basis in accordance with the 85 FR 56578 (September 14, 2020). The applicants selected will be notified as soon as possible. The proposed schedule is updated as follows:

Proposed Timetable
| •
Sunday, May 22, 2022 | Trade Mission Participants Arrive in New Delhi.
Monday, May 23, 2022 | • Welcome and Country Briefing. • One-on-One business matchmaking appointments. • Networking Lunch (No-Host). • One-on-One business matchmaking appointments. • Networking Reception at Deputy Chief of Mission residence (To Be Confirmed (TBC)).
Tuesday, May 24, 2022 | • Breakfast roundtable with Indian industry groups and associations (TBC). • Cyber Security event to share best practices and promote participants. • Networking Lunch (No-Host). • Ministry and other Indian Government Briefings and Meetings. • Transportation from Hotel to Airport Included. • Travel to Mumbai.
Wednesday, May 25, 2022 | • Welcome Briefing, Mumbai and Maharashtra State. • One-on-One business matchmaking appointments. • Networking Lunch (No-Host). • One-on-One business matchmaking appointments. • Networking Reception at Consul General residence (TBC).
Thursday, May 26, 2022 | • Breakfast roundtable with Indian industry groups and associations (TBC). • Cyber Security event to share best practices and promote participants. • Networking Lunch (No-Host). • Indian Government Briefings and Meetings. • Travel to Airport (Not Included).
Friday, May 27, 2022 | • OPTIONAL STOP—Bangalore or Hyderabad. • One-on-One business matchmaking appointments. • Networking Lunch (No-Host). • One-on-One business matchmaking appointments.

Contact

Delia Valdivia, Senior International Trade Specialist, U.S. Commercial Service, Los Angeles, CA, 310-597-8218, delia.valdivia@trade.gov.

Background

U.S.-UK Financial Innovation Partnership (FIP) Trade Mission

The United States Department of Commerce, International Trade Administration, is amending the Notice published at 85 FR 56578 (September 14, 2020), regarding the deadline for submitting applications for ITA's planned U.S.-UK Financial Innovation Partnership (FIP) trade mission, scheduled from June 27-29, 2022. The new final deadline for applications has been extended to April 15, 2022. Applications may be accepted after that date if space remains and scheduling constraints permit. Interested U.S. companies and trade associations/organizations that have not already submitted an application are encouraged to do so. The U.S. Department of Commerce will review applications and make selection decisions on a comparative basis in accordance with the Notice published at 85 FR 56578 (September 14, 2020). The applicants selected will be notified as soon as possible.

Contact

Vincent Tran, International Trade Specialist, Office of Finance and Insurance Industries, Washington, DC, (202) 482-2967, Vincent.Tran@trade.gov.

Gemal Brangman,
Director, ITA Events Management Task Force.

[FR Doc. 2022-05675 Filed 3-16-22; 8:45 am]

BILLING CODE 3510-DR-P